DEPARTMENT OF HOUSING AND URBAN DEVELOPMENT

[Docket No. FR-5866-N-01]

Notice of Intent To Prepare an Environmental Impact Statement (EIS) for Coastal and Social Resiliency Initiatives for Tottenville Shoreline, Staten Island, NY

AGENCY: Office of the Assistant Secretary for Community Planning and Development, HUD.

ACTION: Notice of Intent to Prepare an EIS.

SUMMARY: This provides notice that the State of New York, as the “Responsible Entity,” as that term is defined by 24 CFR 58.2(a)(7)(i), intends to prepare an Environmental Impact Statement (EIS) that will evaluate alternatives for increasing coastal and social resiliency along the Tottenville shoreline on the South Shore of Staten Island and help to avoid or minimize adverse impacts to the quality of the human environment (“Proposed Actions”). The State of New York is the Grantee of Community Development Block Grant Disaster Recovery (CDBG-DR) funds appropriated by the Disaster Relief Appropriations Act, 2013 (Pub. L. 113-2, approved January 29, 2013) related to disaster relief, long-term recovery, restoration of infrastructure and housing, and economic revitalization in the most impacted and distressed areas resulting from a major disaster declared pursuant to the Robert T. Stafford Disaster Relief and Emergency Assistance Act of 1974 (Stafford Act) in calendar years 2011, 2012, and 2013. The Governor's Office of Storm Recovery (GOSR) implements the State's obligations under the National Environmental Policy Act (NEPA) through duly authorized Certifying Officers. GOSR was formed under the auspices of the New York State Homes and Community Renewal's Housing Trust Fund Corporation (HTFC), a public benefit corporation and subsidiary of the New York State Housing Finance Agency.

The EIS will satisfy the requirements of NEPA and the State Environmental Quality Review Act (SEQRA). This notice is in accordance with the Council on Environmental Quality (CEQ) regulations at 40 CFR parts 1500-1508 and HUD regulations at 24 CFR part 58. Following a public scoping process, a Draft EIS will be prepared for the proposed actions described herein. Comments relating to the Draft Scope of Work for the EIS are requested and will be accepted by the contact person listed below. When the Draft EIS is completed, a notice will be sent to appropriate government agencies, individuals and groups known to have an interest in the Draft EIS and particularly in the environmental impact issues identified therein. Any person or agency interested in receiving notice and commenting on the Draft Scope of Work or Draft EIS should contact the person listed below no later than May 15, 2015. HUD has provided for assumption of its NEPA authority and responsibilities to New York State, as Responsible Entity, for the purposes of administering the Community Development Block Grant Disaster Recovery Program in New York State.

Comments: Comments relating to the Draft Scope of Work for the EIS are requested and will be accepted by the contact person listed below until May 15, 2015. Comments will also be accepted at the scoping meeting described below on April 30, 2015. All interested agencies, tribes, groups, and persons are invited to submit written comments on the projects named in this notice and on the Draft Scope of Work for the EIS to the contact person listed below. All comments received before May 15, 2015 will be considered prior to the preparation and distribution of the Draft EIS. Commenters are asked to submit any information-related reports or other environmental studies planned or completed in the project area, major issues that the EIS should consider, recommended mitigation measures, and alternatives associated with the Proposed Actions. Federal, State and City agencies having jurisdiction by law, special expertise, or other special interest should report their interest and indicate their readiness to aid in the EIS effort as a “Cooperating Agency.” The following federal agencies have thus far expressed roles as cooperating agencies under NEPA: The United States Army Corps of Engineers (USACE), the National Oceanic and Atmospheric Administration's National Marine Fisheries Service (NOAA-NMFS), and the United States Environmental Protection Agency (USEPA).

FOR FURTHER INFORMATION CONTACT: Daniel Greene, Deputy General Counsel and Certifying Officer, Governor's Office of Storm Recovery, 25 Beaver Street, 5th Floor, New York, NY 10004; email: nyscdbg_dr_er@nyshcr.org. Individuals may request a copy of the Draft Scope of Work by contacting Mr. Greene at this address or by visiting GOSR's Web site at www.StormRecovery.ny.gov/Environment.

SUPPLEMENTARY INFORMATION:

A. Background

The State of New York, acting through GOSR, and acting under authority of HUD's regulations at 24 CFR part 58, and in cooperation with other cooperating, involved, and interested agencies, will prepare an EIS to analyze potential impacts of certain alternatives to enhance coastal and social resiliency on the South Shore of Staten Island. The EIS will seek to avoid or minimize adverse impacts to the quality of the human environment.

Staten Island is exposed to extreme wave action and coastal flooding during hurricane and nor'easter events due to its location at the mouth of the New York Bight, which funnels and increases the intensity of storm surge into New York Harbor, Raritan Bay, and the shoreline of Staten Island. The South Shore of Staten Island is particularly vulnerable to more continual and gradual coastal erosion and land loss. The overarching goal of the initiative is to reduce risk and coastal erosion along the shoreline in Tottenville by implementing strategies that would primarily address wave action, impacts of coastal flooding, and event-based (i.e., short-term/storm-related) and long-term shoreline erosion, while restoring and enhancing ecosystems and engaging with the community through educational programs and enhanced waterfront access. The EIS will look at several alternatives to achieve these objectives.

B. Purpose and Need of the Proposed Action

As described above, the South Shore of Staten Island is vulnerable to coastal erosion and land loss. Consistent with the New York City's Coastal Protection Initiatives and planning studies for the Tottenville area, the goal of the Proposed Actions is to reduce risk and coastal erosion along the shoreline in Tottenville, while enhancing ecosystems and shoreline accessibility and use.

Specifically, the goals and objectives related to the Proposed Actions' purpose and need are listed below:

Risk Reduction

• Attenuate wave energy.

• Address both event-based and long-term shoreline erosion/preserve beach width.

• Address the impacts of coastal flooding.

Ecological Enhancement

• Increasing diversity of aquatic habitats consistent with the Hudson-Raritan Estuary plan priorities (e.g., oyster reefs and fish and shellfish habitat).

Social Resiliency

• Foster community education on coastal resiliency directly tied to and building off the structural components of this resiliency initiative.

• Increase physical and visual access to the water's edge.

• Enhance community stewardship of on-shore and in-water ecosystems.

• Increase access to recreational opportunities.

C. Project Alternatives

The EIS will discuss all of the alternatives that have been considered for analysis, identify those that have been eliminated from further consideration because they do not meet the stated purpose and need, and identify those that will be analyzed further. At this time, it is anticipated that the following alternatives will be analyzed:

Alternative 1—No Action Alternative

The No Action alternative assumes that no new structural risk reduction projects will be implemented in the project area and existing trends of dune replenishment would continue. This alternative also assumes that current trends with respect to coastal conditions at Tottenville—i.e., relating to erosion, wave action, ecosystems, and water quality—will continue. The No Action alternative also presumes that existing strategies to educate New Yorkers and the general public on the risks posed by climate change will remain the same in the study area.

Alternative 2—The Layered Tottenville Shoreline Resiliency Strategy: Living Breakwaters and Tottenville Dune Projects (“Layered Strategy”) (Preferred Alternative)

The Layered Strategy is the State's preferred alternative and it consists of the implementation of two individual projects that, if integrated as one initiative, may provide a better overall coastal projection and promote social resilience. These projects were developed through separate, but related, planning initiatives arising out of the Hurricane Sandy recovery efforts. If implemented together, the projects would be planned and designed as a single, integrated coastal resiliency strategy for this area. By providing two layers of coastal protection, these components, as further described below, will improve current shoreline erosion conditions, serve to further reduce wave action, provide for ecological enhancement and promote social resiliency. The individual components of the Layered Strategy are discussed below.

Living Breakwaters Project (Rebuild-by-Design)

New York State has been allocated $60 million of CDGB-DR program funds toward a total estimated project cost of $74 million to implement the below described project along the Tottenville shoreline of the South Shore of Staten Island.

In-Water Components

One of the key components of the Layered Strategy is the Breakwaters Project, an ecologically enhanced breakwater system that would reduce wave energy at the shoreline and prevent shoreline erosion. The proposed location of the breakwaters is expected to curtail shoreline erosion, which would support on-going efforts to replenish the protective beaches along the shore. The proposed breakwaters would span an approximately 13,000 linear foot stretch off the Tottenville shoreline of Staten Island and would be located and designed to optimize wave height reduction and reduce coastal erosion. Final siting considerations would include maximizing reductions in wave heights and shoreline erosion, avoiding or minimizing habitat displacement and navigational impacts, and identifying favorable geotechnical conditions.

The proposed breakwater system would increase habitat diversity through the establishment of structural habitat, which is currently limited within Raritan Bay. The breakwaters would likely provide a combination of exposed, intertidal and subtidal reef habitat, and through the incorporation of “reef streets” (pockets of complexity within the structure) would further increase habitat diversity within Raritan Bay by providing shelter for juvenile fish, and increasing biological recruitment of filter-feeding organisms such as mussels and oysters, furthering opportunities for shellfish restoration within Raritan Bay. The breakwaters would also protect the proposed on-shore dune system described below. The draft operation and maintenance plan for the proposed breakwater system will be described in the EIS.

On-Shore Community Water Hub/Landscape Elements

With the goal of promoting social resiliency, a proposed community Water Hub would provide a place for access to the waterfront, orientation, education, information, restoration, gathering and equipment storage. In particular, the Water Hub programming would include classrooms and labs, engaging schools in waterfront education, oyster restoration and reef building, and cultivating long-term estuary stewardship. The educational programming for the Water Hub will directly tie in to the in-water components, as well as to any shoreline resiliency component. In addition to ecological engagement, the Water Hub facilities and programs are intended to educate residents on the risks and benefits of living in the coastal environment and build awareness and preparedness within the community. The Tottenville Water Hub may also include other elements, such as recreation lounges, exhibition space, a local restaurant, maintenance-related storage space and offices, bird watching stations and nature observation decks.

The Water Hub would potentially be located on the waterfront within or near Conference House Park, although alternate locations will be considered during the EIS process. Siting considerations would include access to existing infrastructure, Coastal Erosion Hazard Area (CEHA) sensitivity, coastal construction permitting, archaeological sensitivity, proximity to the breakwater system, proximity to local schools and public transportation, and neighborhood traffic patterns and parking. The draft operation and maintenance plan for the proposed Water Hub will be described in the EIS.

The Breakwaters Project would also include several on-shore and near-shore landscape elements in the area of the Water Hub, including living shorelines (high and low marsh), oyster revetments, maritime forest and dune plantings.

Tottenville Dune Project (NY Rising Community Reconstruction Program)

New York State proposes to use approximately $6,350,000 of HUD CDBG-DR program funds to implement the below-described dune system with plantings along the Tottenville shoreline from approximately Brighton Street to Joline Avenue. The Dune Project is intended to protect against coastal flooding and wave action, complementing the Breakwaters Project and furthering the goal of risk reduction in Tottenville.

The Tottenville Dune Project is proposed as a hardened dune system that would consist of constructed dunes having a stone core with a sand cap, and is the primary shoreline component of the layered approach to risk reduction in Tottenville. Once constructed, the dunes would be planted with appropriate vegetation, which through root growth, will serve to stabilize the dunes to withstand wind and water erosion while promoting enlargement of the dunes by accretion.

The proposed dune system would be located along the Tottenville shoreline from approximately Brighton Street to Joline Avenue. Temporary dunes, constructed by the New York City Department of Parks and Recreation (NYCDPR) as interim protective measures post-Sandy, are currently in place from approximately Brighton Street to Sprague Avenue. These temporary dunes would be replaced with the larger, hardened dune system. New dunes would also be constructed from Sprague Avenue to Joline Avenue. Americans with Disabilities Act (ADA) accessible access points to the beach would also be constructed along the new dune system and would be considered and designed in tandem with the Water Hub and living shoreline project components. Designing the dunes in conjunction with the breakwaters may enable design modifications of the dunes (such as, reduced height) that would enhance the need for shoreline accessibility. The draft operation and maintenance plan for the proposed dune system will be described in the EIS.

Alternative 3—Breakwaters Without a Dune System

This alternative will evaluate conditions with the proposed breakwaters in place (including the on-shore community Water Hub and landscape elements), but without a proposed long-term dune system between Brighton Avenue and Joline Avenue.

Alternative 4—Dune System Without Breakwaters

This alternative will evaluate conditions with the proposed long-term dune system in place, but without the proposed breakwaters, Water Hub, or on-shore landscape elements.

Other Alternatives

Other alternatives may be developed in consultation with the United States Army Corp of Engineers, the National Oceanic and Atmospheric Administration—National Marine Fisheries Service, the United States Environmental Protection Agency, the New York State Department of State, New York State Department of Environmental Conservation, New York City Department of Parks and Recreation and other involved agencies during the EIS preparation process, as well as in response to suggestions made by project stakeholders and the general public during the EIS scoping process. Notably, GOSR intends for the alternatives analysis to fulfill the requirements for a permit under Section 404 of the Clean Water Act. These may include non-structural coastal resilience strategies, but only to the extent that they meet the purposes and need for both enhanced shoreline protection and increased social resiliency. The alternatives may also include coastal resiliency strategies proposed by other governmental stakeholders, to the extent that these strategies are made available to GOSR during development of the Draft EIS. Additionally, alternatives may also include alternate designs or sizes of both the dune and breakwaters.

D. Need for the EIS

The actions proposed herein may constitute an action significantly affecting the quality of the environment and an EIS will be prepared on this project in accordance with NEPA. Responses to this notice will be used to: (1) Determine significant environmental issues, (2) assist in developing a range of alternatives to be considered, (3) identify issues that the EIS should address, and (4) identify agencies and other parties that will participate in the EIS process and the basis for their involvement.

E. Scoping

A public EIS scoping meeting will be held on April 30, 2015 from 7:00 to 9:00 p.m. at CYO-MIV Community Center, 6541 Hylan Blvd., Staten Island, NY 10309. The public meeting site will be accessible to the mobility-impaired. Interpreter services will be available for the hearing or visually impaired upon advance request. The EIS scoping meetings will provide an opportunity for the public to learn more about the Proposed Actions and provide input to the environmental process. At the meetings, an overview of the Proposed Actions, including the preferred Layered Strategy alternative, will be presented and members of the public will be invited to comment on the scope of work for the environmental analyses in the EIS. Written comments and testimony concerning the scope of the EIS will be accepted at these meetings. In accordance with 40 CFR 1501.7; affected Federal, State, and local agencies, any affected Indian tribes, and other interested parties will be sent a scoping notice. In accordance with 24 CFR 58.59, the scoping meetings will be preceded by a notice of public meeting published in the local news media at least 15 days before the hearing date.

F. Probable Environmental Effects

The following subject areas will be analyzed in the combined EIS for probable environmental effects: Land Use, Zoning, and Public Policy; Socioeconomic Conditions; Environmental Justice; Cultural Resources; Visual Character; Shadows; Natural Resources; Water and Sewer Infrastructure; Transportation; Air Quality; Greenhouse Gases and Climate Change; Noise; Construction; Public Health; Neighborhood Character; and Cumulative Effects.

Questions may be directed to the individual named in this notice under the heading FOR FURTHER INFORMATION CONTACT.

Date: April 15, 2015.
Clifford Taffet,
General Deputy Assistant Secretary for Community Planning and Development.

[FR Doc. 2015-09007 Filed 4-17-15; 8:45 am]

BILLING CODE 4210-67-P